DEPARTMENT OF THE TREASURY

Office of Foreign Assets Control

Sanctions Actions Pursuant to Executive Order 13611

AGENCY: Office of Foreign Assets Control, Treasury.

ACTION: Notice.

SUMMARY: The Treasury Department's Office of Foreign Assets Control (OFAC) is publishing the names of 2 individuals whose property and interests in property are blocked pursuant to Executive Order (E.O.) 13611 and whose names have been added to OFAC's list of Specially Designated Nationals and Blocked Persons (SDN List).

DATES: OFAC's actions described in this notice were effective April 14, 2015.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic and Facsimile Availability

The SDN List and additional information concerning OFAC sanctions programs are available from OFAC's Web site (www.treas.gov/ofac). Certain general information pertaining to OFAC's sanctions programs is also available via facsimile through a 24-hour fax-on-demand service, tel.: 202/622-0077.

Notice of OFAC Actions

On April 14, 2015, OFAC blocked the property and interests in property of the following 2 individuals pursuant to E.O. 13611, “Blocking Property of Persons Threatening the Peace, Security, or Stability of Yemen”:

Individuals

1. SALEH, Ahmed Ali (a.k.a. SALEH, Ahmad Ali Abdullah; a.k.a. SALEH, Ahmed Ali Abdullah; a.k.a. SALIH AL-AHMAR, Ahmad Ali Abdallah); DOB 25 Jul 1972; alt. DOB 1970; POB Sana'a, Yemen; nationality Yemen; Gender Male; Diplomatic Passport 00000017 (Yemen) issued 27 Oct 2008 expires 26 Oct 2014; Yemen's former Ambassador to the United Arab Emirates; Former Commander of Yemen's Republican Guard (individual) [YEMEN].

2. AL HOUTHI, Abdul Malik (a.k.a. AL-HOUTHI, Abdel-Malek; a.k.a. AL-HOUTHI, Abdel-Malik; a.k.a. AL-HOUTHI, Abdul Malik Badruddin Ameerudin Hussain; a.k.a. AL-HOUTHI, Abdul-Malik; a.k.a. AL-HOUTHI, Abdulmalik Bin Bader Al-Deen); DOB 1982; alt. DOB 1981; alt. DOB 1980; POB Dahyan Governorate, Yemen; nationality Yemen; Leader of the Houthi group (individual) [YEMEN].

Dated: April 14, 2015.
Andrea M. Gacki,
Acting Director, Office of Foreign Assets Control.

[FR Doc. 2015-09715 Filed 4-24-15; 8:45 am]

BILLING CODE 4810-AL-P